DEPARTMENT OF ENERGY

Federal Energy Regulatory Commission

[Project No. 2071-090]

PacifiCorp; Notice of Intent To Prepare an Environmental Assessment

On May 31, 2023, PacifiCorp (licensee) filed an application for a non-capacity amendment for the Yale Hydroelectric Project No. 2071. The project is located on the Lewis River in Clark and Cowlitz counties, WA.

The licensee proposes to install a rock filter/drain berm on the downstream side of the Yale saddle dam and add a downstream toe drain and drainage swale. The licensee's proposal includes adding material to the downstream side of the dam, extending the toe approximately 50 feet into the parking lot for Saddle Dam Park that it would subsequently modify to maintain the existing parking capacity. Additionally, the applicant would add rock armament to the upstream face of the dam, requiring a 1 to 2-month-long, 15-foot reservoir drawdown in the winter. Construction is expected to take place over approximately 18 months.

On May 17, 2024, the Commission issued a public notice for the proposed amendment. On May 17, 2024, a member of the public filed comments and on June 17, 2024, the Washington Department of Ecology (Washington DOE) filed a notice of intervention. On June 17, 2024, the U.S. Environmental Protection Agency filed comments.

This notice identifies Commission staff's intention to prepare an environmental assessment (EA) for the project.¹ The planned schedule for the completion of the EA is May 28, 2025. Revisions to the schedule may be made as appropriate. The EA will be issued and made available for review by all interested parties during a 30-day public comment period. All comments filed on the EA will be reviewed by staff and considered in the Commission's final decision on the proceeding.

¹ In accordance with the Council on Environmental Quality's regulations, the unique identification number for documents relating to this environmental review is EAXX-019-20-000-1727194731. 40 CFR 1501.5(c)(4) (2024).

The Commission's Office of Public Participation (OPP) supports meaningful public engagement and participation in Commission proceedings. OPP can help members of the public, including landowners, environmental justice communities, Tribal members, and others to access publicly available information and navigate Commission processes. For public inquiries and assistance with making filings such as interventions, comments, or requests for rehearing, the public is encouraged to contact OPP at (202) 502-6595 or OPP@ferc.gov.

Any questions regarding this notice may be directed to Steven Sachs at 202-502-8666 or Steven.Sachs@ferc.gov.

Dated: September 25, 2024.
Debbie-Anne A. Reese,
Acting Secretary.

[FR Doc. 2024-22485 Filed 9-30-24; 8:45 am]

BILLING CODE 6717-01-P